DEPARTMENT OF LABOR

Employment and Training Administration

[TA-W-53,086]

Harlyn Textile Mills, Inc., New York, New York; Notice of Termination of Investigation

Pursuant to section 221 of the Trade Act of 1974, an investigation was initiated on October 1, 2003 in response to a worker petition which was filed by a company official on behalf of workers at Harlyn Textile Mills, Inc., New York, New York (TA-W-53,086).

The petitioner has requested that the petition be withdrawn. Consequently, further investigation in this case would serve no purpose, and the investigation has been terminated.

Signed at Washington, DC, this 13th day of November 2003.
Linda G. Poole,
Certifying Officer, Division of Trade Adjustment Assistance.

[FR Doc. 03-30080 Filed 12-2-03; 8:45 am]

BILLING CODE 4510-30-P